DEPARTMENT OF COMMERCE

International Trade Administration

[A-583-841]

Polyvinyl Alcohol from Taiwan: Final Results of Antidumping Duty Administrative Review; 2010-2012

AGENCY: Import Administration, International Trade Administration, Department of Commerce.

SUMMARY: On April 8, 2013, the Department of Commerce (the Department) published the preliminary results of the administrative review of the antidumping duty order on polyvinyl alcohol (PVA) from Taiwan. For these final results, we continue to find that Chang Chun Petrochemical Co., Ltd. (CCPC) has not sold subject merchandise at less than normal value.

DATES: Effective Date: June 24, 2013.

FOR FURTHER INFORMATION CONTACT: Sandra Dreisonstok or Minoo Hatten, AD/CVD Operations, Office 1, Import Administration, International Trade Administration, U.S. Department of Commerce, 14th Street and Constitution Avenue NW., Washington, DC 20230; telephone: (202) 482-0768 and (202) 482-1690, respectively.

SUPPLEMENTARY INFORMATION:

Background

On April 8, 2013, the Department published the preliminary results of the administrative review of the antidumping duty order on PVA from Taiwan.¹ The period of review is September 13, 2010, through February 29, 2012.

¹ See Polyvinyl Alcohol From Taiwan: Preliminary Results of Antidumping Duty Administrative Review, 78 FR 20890 (April 8, 2013) (Preliminary Results) and the accompanying Preliminary Decision Memorandum.

We invited interested parties to comment on the Preliminary Results. We received a case brief from CCPC on May 8, 2013, in which it alleged one clerical error in the calculation. The petitioner, Sekisui Specialty Chemicals, LLC, did not file a case or rebuttal brief.

The Department has conducted this administrative review in accordance with section 751 of the Tariff Act of 1930, as amended (the Act).

Scope of the Order

The merchandise covered by the antidumping duty order is PVA. This product consists of all PVA hydrolyzed in excess of 80 percent, whether or not mixed or diluted with commercial levels of defoamer or boric acid. PVA in fiber form and PVB-grade low-ash PVA are not included in the scope of this order. PVB-grade low-ash PVA is defined to be PVA that meets the following specifications: Hydrolysis, Mole % of 98.40 ± 0.40, 4% Solution Viscosity 30.00 ± 2.50 centipois, and ash—ISE, wt% less than 0.60, 4% solution color 20 mm cell, 10.0 maximum APHA units, haze index, 20 mm cell, 5.0, maximum. The merchandise subject to the order is currently classifiable under subheading 3905.30.00 of the Harmonized Tariff Schedule of the United States (HTSUS). Although the HTSUS subheading is provided for convenience and customs purposes, the written description of the merchandise subject to the order is dispositive.

Changes Since the Preliminary Results

Based on our analysis of the comments received, we have corrected the programming error in the weighted-average dumping margin calculation in the Preliminary Results. This change, however, did not affect the final weighted-average dumping margin for CCPC. A detailed discussion of the corrections made is included in the final analysis memorandum,² which is hereby adopted by this notice and is on file electronically via Import Administration's Antidumping and Countervailing Duty Centralized Electronic Service System (“IA ACCESS”). IA ACCESS is available to registered users at http://iaaccess.trade.gov, and is available to all parties in the Central Records Unit, Room 7046 of the main Department of Commerce building.

² See Memorandum to the file from Sandra Dreisonstok through Minoo Hatten entitled, “Administrative Review of the Antidumping Duty Order on Polyvinyl Alcohol from Taiwan: Final Analysis Memorandum for Chang Chun Petrochemical Co., Ltd.; 2010-2012” dated concurrently with this notice.

Final Results of Review

As a result of this review, we determine that a weighted-average dumping margin of 0.00 percent exists for CCPC for the period September 13, 2010, through February 29, 2012.

Assessment Rates

In accordance with the Final Modification for Reviews,³ we will instruct U.S. Customs and Border Protection (CBP) to liquidate CCPC's entries covered in this review without regard to antidumping duties.

³ See Antidumping Proceedings: Calculation of the Weighted-Average Dumping Margin and Assessment Rate in Certain Antidumping Duty Proceedings; Final Modification, 77 FR 8101, 8102 (February 14, 2012) (Final Modification).

The Department clarified its “automatic assessment” regulation on May 6, 2003. This clarification will apply to entries of subject merchandise during the period of review produced by CCPC for which it did not know its merchandise was destined for the United States. In such instances, we will instruct CBP to liquidate unreviewed entries at the country-specific all-others rate if there is no rate for the intermediate company(ies) involved in the transaction. For a full discussion of this clarification, see Antidumping and Countervailing Duty Proceedings: Assessment of Antidumping Duties, 68 FR 23954 (May 6, 2003).

We intend to issue liquidation instructions to CBP 15 days after publication of the final results of review.

Cash Deposit Requirements

The following deposit requirements will be effective upon publication of the notice of final results of administrative review for all shipments of PVA from Taiwan entered, or withdrawn from warehouse, for consumption on or after the date of publication as provided by section 751(a)(2) of the Act: (1) The cash deposit rate for CCPC will be 0.00 percent, the weighted-average dumping margin established in the final results of this administrative review; (2) for merchandise exported by manufacturers or exporters not covered in this review but covered in a prior segment of the proceeding, the cash deposit rate will continue to be the company-specific rate published for the most recently completed segment of this proceeding; (3) if the exporter is not a firm covered in this review or the original investigation but the manufacturer is, the cash deposit rate will be the rate established for the manufacturer of the merchandise for the most recently completed segment of this proceeding; and (4) the cash deposit rate for all other manufacturers or exporters will continue to be 3.08 percent, the all-others rate established in the Antidumping Duty Order: Polyvinyl Alcohol From Taiwan, 76 FR 13982 (March 15, 2011). These cash deposit requirements shall remain in effect until further notice.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

These final results of administrative review are issued and published in accordance with sections 751(a)(1) and 777(i)(1) of the Act.

Dated: June 17, 2013.
Ronald K. Lorentzen,
Acting Assistant Secretary for Import Administration.

[FR Doc. 2013-14915 Filed 6-21-13; 8:45 am]

BILLING CODE 3510-DS-P